NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 75 FR 32508, and no substantial comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Individuals who use a telecommunications device for the deaf (TDD) may call the Federal Information Relay Service (FIRS) at 1-800-877-8339, which is accessible 24 hours a day, 7 days a week, 365 days a year (including Federal holidays).

Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

Title of Collection: Evaluation of the Robert Noyce Teacher Scholarship Program.

OMB Control No.: 3145-(NEW).

Abstract: The National Science Foundation (NSF) requests a three-year clearance for research, evaluation and data collection (e.g., surveys and interviews) about the Noyce Program. NSF established the Robert Noyce Teacher Scholarship Program to encourage talented STEM majors and professionals to become K-12 mathematics and science teachers. The Noyce Program awards scholarships, stipends, fellowships and internships to support the preparation of K-12 teachers in mathematics and science. For specific details and the most updated information regarding Noyce program operations, please visit the NSF Web site at: http://www.nsf.gov/funding/pgm_summ.jsp?pims_id=5733.

The study will survey Principal Investigators of the Noyce Program, Science, Technology, Engineering, or Mathematics (STEM) Faculty involved in the Noyce Program, Noyce Recipients, and K-12 Principals in schools where former recipients are teaching. Noyce recipients may be undergraduates majoring in a science, technology, engineering, or mathematics (STEM) discipline; STEM post-baccalaureates; STEM professionals; or exemplary mathematics and science teachers, who have master's degrees. The Noyce program evaluation will include all awards made between 2003 and 2009.

NSF has contracted a program evaluation of the Noyce Program, to be conducted by Abt Associates Inc. Through this evaluation of the Noyce Program, NSF aims to examine and document:

(1) The strategies and programs Noyce grantees use to recruit and retain teacher candidates, both during teacher preparation and during the induction period;

(2) The institutional change occurring within STEM departments regarding the preparation of future mathematics and science teachers;

(3) The relationships between characteristics of the Noyce Program, types of Noyce recipients, characteristics of the schools in which Noyce recipients teach, and recipients' plans to teach in high-need schools and to pursue leadership roles; and

(4) The impacts of the Noyce program on teacher recruitment and retention and on teacher effectiveness.

The methods of data collection will include both primary and secondary data collections. Primary data collection will include surveys and telephone interviews; secondary data sources include open sources, records at NSF and grantee institutions, and state departments of education and teacher retirement funds. There is a bounded (or limited) number of respondents within the general public who will be affected by this research, including current and former Noyce grantees and associated faculty, STEM majors, post-baccalaureates, or professionals eligible who are supported by Noyce funding, and K-12 principals and district administrators. NSF will use the Noyce program evaluation data and analyses to respond to requests from Committees of Visitors (COV), Congress and the Office of Management and Budget, particularly as related to the Government Performance and Results Act (GPRA) and the Program Assessment Rating Tool (PART) or its replacement. NSF will also use the program evaluation to share the broader impacts of the Noyce program with the general public.

Respondents: Individuals, Federal Government, State, Local or Tribal Government and not-for-profit institutions.

Estimated Number of Respondents: 5000.

Burden on the Public: 2400 hours.

Dated: August 6, 2010.
Suzanne H. Plimpton,
Reports Clearance Officer, National Science Foundation.

[FR Doc. 2010-19842 Filed 8-10-10; 8:45 am]

BILLING CODE 7555-01-P